DEPARTMENT OF HOUSING AND URBAN DEVELOPMENT

[Docket No. FR-5307-N-01]

Notice of Web Site Availability: Allocations, Application Procedures and Requirements for Homelessness Prevention and Rapid Re-Housing Program Grantees Under the American Recovery and Reinvestment Act of 2009

AGENCY: Office of the Assistant Secretary for Community Planning and Development, HUD.

ACTION: Notice.

SUMMARY: Through this notice, HUD announces the availability on its Web site of the allocation formula, allocation amounts, list of grantees, statutory and regulatory program requirements, submission deadlines, and other requirements for the Homelessness Prevention and Rapid Re-Housing Program (HPRP) authorized by Title XII of the American Recovery and Reinvestment Act of 2009 (Pub. L. 111-05, approved February 17, 2009). HPRP funding is focused on providing short- and medium-term rental assistance to individuals and families who are currently in housing, but at risk of becoming homeless, and individuals and families who are homeless. Approximately $1.489 billion will be allocated for these purposes to states, metropolitan cities, urban counties and territories. State sub-grantees and non-profit sub-grantees are also eligible to receive HPRP funds from grantees. The notice establishing the program and application requirements for these funds, allocation information, and eligibility criteria is available on the HUD Web site at: http://www.hud.gov/recovery/homeless-prevention.cfm.

FOR FURTHER INFORMATION CONTACT: Ann Marie Oliva, Director, Office of Special Needs Assistance Programs, Office of Special Needs Assistance, Office of Community Planning and Development, Department of Housing and Urban Development, 451 7th Street, SW., Room 7262, Washington DC 20410-3000; telephone 1-800-998-9999. Hearing- or speech-impaired individuals may access the voice telephone number listed above by calling the toll-free Federal Information Relay Service during working hours at 800-877-8339.

Dated: March 25, 2009.
Nelson R. Bregón,
General Deputy Assistant Secretary for Community Planning and Development.

[FR Doc. E9-7182 Filed 3-30-09; 8:45 am]

BILLING CODE 4210-67-P